INTERNATIONAL TRADE COMMISSION

[Investigation No. 337-TA-1415 (Enforcement)]

Certain Pre-Stretched Synthetic Braiding Hair and Packaging Therefor; Notice of Institution of Formal Enforcement Proceeding

AGENCY: U.S. International Trade Commission.

ACTION: Notice.

SUMMARY: Notice is hereby given that the U.S. International Trade Commission has determined to institute a formal enforcement proceeding relating to the limited exclusion order and cease and desist orders (collectively, “the remedial orders”) issued on September 29, 2025, in the above-referenced investigation, against certain defaulting respondents, including Vivace, Inc. d/b/a Dae Do Inc. (“Vivace”) of Port Washington, NY.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On September 9, 2024, the Commission instituted this investigation based on a complaint filed by JBS Hair of Atlanta, GA (“Complainant”). 89 FR 73123-24 (Sept. 9, 2024). The complaint, as supplemented, alleged violations of section 337 of the Tariff Act of 1930, as amended, 19 U.S.C. 1337 (“section 337”), based upon the importation into the United States, the sale for importation, and the sale within the United States after importation of certain pre-stretched synthetic braiding hair and packaging therefor by reason of the infringement of certain claims of U.S. Patent Nos. 10,786,026; 10,945,478 (“the '478 patent”); and 10,980,301 (“the '301 patent”). Id. The Commission's notice of investigation, as amended, named the following respondents: (1) Vivace; A-Hair Import Inc. of Norcross, Georgia (“A-Hair”); Crown Pacific Group Inc. of Doraville, Georgia (“Crown Pacific”); Loc N Products, LLC of Atlanta, Georgia (“Loc N”); and Zugoo Import Inc. of Norcross, Georgia (“Zugoo”) (collectively, “Defaulting Respondents”); (2) Chois International, Inc. of Norcross, GA (“Chois”); I & I Hair Corp. of Dallas, TX (“I & I Hair”); Kum Kang Trading USA, Inc. d/b/a BNGHAIR of Paramount, CA (“Kum Kang”); Mink Hair, Ltd. d/b/a Sensual® Collection of Wayne, NJ (“Mink Hair”); Oradell International Corp. d/b/a MOTOWN TRESS of Manalapan, NJ (“Oradell”); and Twin Peak International, Inc. d/b/a Dejavu Hair of Atlanta, GA (“Twin Peak”) (collectively, “Consent Order Respondents”); and (3) Sun Taiyang Co., Ltd. d/b/a Outre® of Moonachie, NJ; Beauty Elements Corporation d/b/a Bijouz® of Miami Gardens, FL; Hair Zone, Inc. d/b/a Sensationnel® of Moonachie, NJ; Beauty Essence, Inc. d/b/a Supreme™ Hair US of Moonachie, NJ; SLI Production Corp. d/b/a It's a Wig! of Moonachie, NJ; Royal Imex, Inc. d/b/a Zury® Hollywood of Santa Fe Springs, CA; GS Imports, Inc. d/b/a Golden State Imports, Inc. of Paramount, CA; Eve Hair, Inc. of Lakewood, CA; Midway International, Inc. d/b/a BOBBI BOSS of Cerritos, CA; Mayde Beauty Inc. of Port Washington, NY; Hair Plus Trading Co., Inc. d/b/a Femi Collection of Suwanee, GA; Optimum Solution Group LLC d/b/a Oh Yes Hair of Duluth, GA; Chade Fashions, Inc. of Niles, IL; Mane Concept Inc. of Moonachie, NJ; Beauty Plus Trading Co., Inc. d/b/a Janet Collection™ of Moonachie, NJ; Model Model Hair Fashion, Inc. of Port Washington, NY; New Jigu Trading Corp. d/b/a Harlem 125® of Port Washington, NY; Shake N Go Fashion, Inc. of Port Washington, NY; and Amekor Industries, Inc. d/b/a Vivica A. Fox® Hair Collection of Conshohocken, PA (collectively, “Remaining Respondents”). Id.; see also 89 FR 97068-69 (Dec. 6, 2024). The Office of Unfair Import Investigations (“OUII”) was also named as a party in this investigation. Id. at 73124.

The Commission found each of the Defaulting Respondents to be in default. Order No. 26 (Dec. 19, 2024), unreviewed by Comm'n Notice (Jan. 17, 2025) (Loc N); Order No. 31 (Feb. 4, 2025), unreviewed by Comm'n Notice (Feb. 24, 2025) (Vivace and A-Hair); Order No. 32 (Feb. 14, 2025), unreviewed by Comm'n Notice (Mar. 11, 2025) (Crown Pacific); Order No. 34 (Feb. 24, 2025), unreviewed by Comm'n Notice (Mar. 24, 2025) (Zugoo).

The Commission terminated the Consent Order Respondents based on entry of consent order stipulations and consent orders. Order No. 10 (Oct. 18, 2024), unreviewed by Comm'n Notice (Nov. 15, 2024) (Kum Kang, Mink Hair, Oradell); Order No. 16 (Nov. 14, 2024), unreviewed by Comm'n Notice (Dec. 11, 2024) (I & I Hair); Order No. 28 (Dec. 23, 2024), unreviewed by Comm'n Notice (Jan. 21, 2025) (JMS Trading); Order No. 29 (Jan. 7, 2025) (Chois) & Order No. 30 (Twin Peak) (Jan. 7, 2025), unreviewed by Comm'n Notice (Jan. 30, 2025).

On April 29, 2025, the Commission terminated the investigation as to the Remaining Respondents based on withdrawal of the complaint as to those respondents and requested briefing on remedy, the public interest and bonding with respect to the Defaulting Respondents. Order No. 44 (Apr. 10, 2025), unreviewed by Comm'n Notice (Apr. 29, 2025), 90 FR 18991-93 (May 5, 2025).

On September 29, 2025, the Commission issued the remedial orders against the Defaulting Respondents, including Vivace, pursuant to section 337(g)(1), 19 U.S.C. 1337. Comm'n Notice (Sept. 29, 2025), 90 FR 47821-23 (Oct. 2, 2025).

On December 18, 2025, Complainant filed an enforcement complaint against Vivace requesting that the Commission institute an enforcement proceeding under Commission Rule 210.75 (19 CFR 210.75) to investigate alleged violations by Vivace of the Commission's remedial orders. Complainant alleges that Vivace continues to import into the United States, sell for importation, or sell within the United States after importation, products that infringe claim 20 of the '478 patent and claims 1, 4-9 and 11 of the '301 patent, in violation of the remedial orders.

Having examined the enforcement complaint and the supporting exhibits, the Commission has determined that the complaint complies with the requirements for institution of a formal enforcement proceeding. Accordingly, the Commission has determined to institute a formal enforcement proceeding, pursuant to Commission Rule 210.75(a) (19 CFR 210.75(a)), to determine whether violations of the remedial orders have occurred and to determine what, if any, enforcement measures are appropriate. The named respondent is Vivace. OUII is also named as a party to the enforcement proceeding.

In the Order issued concurrently herewith, the Commission has delegated this enforcement proceeding to the Chief Administrative Law Judge (“ALJ”) for designation of a presiding ALJ to conduct any necessary proceedings, issue an Enforcement Initial Determination, and make a recommendation on appropriate enforcement measures, if any.

The Commission's vote for this determination took place on January 20, 2026.

The authority for the Commission's determination is contained in section 337 of the Tariff Act of 1930, as amended (19 U.S.C. 1337), and in part 210 of the Commission's Rules of Practice and Procedure (19 CFR part 210).

By order of the Commission.
Issued: January 20, 2026.
Lisa Barton,
Secretary to the Commission.

[FR Doc. 2026-01184 Filed 1-21-26; 8:45 am]

BILLING CODE 7020-02-P